DEPARTMENT OF VETERANS AFFAIRS

Advisory Committee on Cemeteries and Memorials, Notice of Meeting Cancellation

The Department of Veterans Affairs (VA) gives notice under the Federal Advisory Committee Act, 5 U.S.C. Ch. 10, that the Advisory Committee on Cemeteries and Memorials, previously scheduled to be held on October 28 and October 29, 2025, has been cancelled due to a lapse in appropriations.

For more information, please contact Ms. Faith Hopkins, Designated Federal Officer, at 202-603-4499 or via email at Faith.Hopkins@va.gov.

Dated: October 15, 2025.
Taylor N. Mattson,
Alternate Federal Register Liaison Officer, Department of Veterans Affairs.

[FR Doc. 2025-19591 Filed 10-17-25; 8:45 am]

BILLING CODE 8320-01-P